LEGAL SERVICES CORPORATION

Sunshine Act Meetings of the Board of Directors and the Board's Five Committees; Notice

Times and Dates: The Legal Services Corporation Board of Directors and the Board's five Committees will meet on July 24 & 25, 2009 in the order set forth in the following schedule, with each meeting commencing promptly upon adjournment of the immediately preceding meeting.

Public Observation: The five committee meetings and most of the full board meeting will be open to public observation, and members of the public who are unable to attend but wish to listen to the proceedings may do so by following the telephone call-in directions given below. You are asked to keep your telephone muted to eliminate background noises. From time to time comments from the public may be solicited by the presiding Chairman.

Call-In Directions for Open Sessions

Friday, July 24, 2009

• Call toll-free number: 1-800-247-9979;

• When prompted, enter the following numeric pass code: 20342797;

• When connected to the call, please “MUTE” your telephone immediately.

Saturday, July 25, 2009

• Call toll-free number: 1-800-247-9979;

• When prompted, enter the following numeric pass code: 20342797;

• When connected to the call, please “MUTE” your telephone immediately.

Meeting Schedule
Friday, July 24, 2009 | Time
1. Provision for the Delivery of Legal Services Committee (“Provisions Committee”) | 1:30 p.m.
2. Audit Committee
3. Finance Committee

Saturday, July 25, 2009 |
4. Operations & Regulations Committee | 9:00 a.m.
5. Governance and Performance Review Committee
6. Board of Directors

Location: Capitol Plaza Hotel, 1717 S. Topeka Blvd., Topeka, KS.

Status of Meetings: Open, except as noted below.¹

¹ Please note that all times in this notice are Central Daylight Time.

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3

July 25, 2009 Board of Directors Meeting—Open, except that a portion of the meeting of the Board of Directors may be closed to the public pursuant to a vote of the Board of Directors to consider and perhaps act on the General Counsel's report on potential and pending litigation involving LSC. The closed will also include a briefing by LSC's Inspector General. A verbatim written transcript of the session will be made. However, the transcript of any portions of the closed session falling within the relevant provisions of the Government in the Sunshine Act, 5 U.S.C. 552b(c)(10), and the corresponding provisions of the Legal Services Corporation's implementing regulation, 45 CFR 1622.5(h), will not be available for public inspection. A copy of the General Counsel's Certification that in his opinion the closing is authorized by law will be available upon request.

Matters to be Considered:

Friday, July 24, 2009

Provision for the Delivery of Legal Services Committee

Agenda

1. Approval of agenda.

2. Approval of the Committee's meeting minutes of April 24, 2009.

3. Presentation by Kansas Legal Services on Enhancing Leadership and Training through use of Legal Meetings, an LSC TIG-funded project.

4. Staff Update on activities implementing the LSC Private Attorney Involvement Action Plan—Help Close the Justice Gap: Unleash the Power of Pro Bono.

5. Staff Report and Recommendation on Continuation of the Herbert S. Garten Loan Repayment Assistance Program.

6. Staff Report and Recommendation on Native American Delivery and Funding for FY 2010.

7. Public comment.

8. Consider and act on other business.

9. Consider and act on adjournment of meeting.

Audit Committee

July 24, 2009

Agenda

1. Approval of agenda.

2. Approval of minutes of the Committee's October 31, 2008 meeting.

3. Approval of minutes of the Committee's April 24, 2009 meeting.

4. Follow-up to FY 2008 Annual Audit finding on classification of consultants and update on Management response to OIG Audit of LSC's Consultant Contracts.

■ Victor M. Fortuno, General Counsel.

■ Charles Jeffress, Chief Administrative Officer.

■ Jeffrey Schanz, Inspector General.

■ Ronald Merryman, Assistant Inspector General for Audit.

5. Report on selection of outside auditor for FY 2009.

■ Jeffrey Schanz, Inspector General.

6. Public comment.

7. Consider and act on other business.

8. Consider and act on adjournment of meeting.

Finance Committee

July 24, 2009

Agenda

1. Approval of agenda.

2. Approval of the minutes of the Committee's meeting of April 24, 2009.

3. Staff report on repayment of LRAP funds.

■ Victor M. Fortuno, General Counsel.

■ John Constance, Director, Government Relations and Public Affairs.

4. Consider and act on revisions to the Consolidated Operating Budget for FY 2009 including internal budgetary adjustments and recommend Resolution # 2009-005 to the full Board.

■ Presentation by David Richardson, Treasurer/Comptroller.

■ Comments by Charles Jeffress, Chief Administrative Officer.

5. Presentation on LSC's Financial Reports for the first six months of FY 2009.

■ Presentation by David Richardson, Treasurer/Comptroller.

■ Comments by Charles Jeffress, Chief Administrative Officer.

6. Consider and act on proposed 2009 pay increase.

■ Presentation by David Richardson, Treasurer/Comptroller.

■ Comments by Charles Jeffress, Chief Administrative Officer.

■ Comments by Jeffrey Schanz, Inspector General.

7. Report on FY 2010 appropriations process.

■ Presentation by John Constance, Director, Government Relations and Public Affairs.

8. Consider and Act on the Temporary Operating Budget for FY 2010 and recommend Resolution # 2009-006 to the full Board for action.

■ Presentation by David Richardson, Treasurer/Comptroller.

■ Comments by Charles Jeffress, Chief Administrative Officer.

9. Consider and act on a date for a September 2009 Finance Committee meeting to consider the LSC FY 2011 budget request.

10. Public comment.

11. Consider and act on other business.

12. Consider and act on adjournment of meeting.

Saturday, July 25, 2009

Operations & Regulations Committee

Agenda

1. Approval of agenda.

2. Approval of the minutes of the Committee's April 25, 2009 meeting.

3. Consider and act on proposed grant assurances for 2010 grants.

4. Staff report on follow-up to January 30, 2009 presentation on grantee board governance and oversight.

5. Discussion of need for and wisdom of requiring grantees' governing bodies to establish audit committees.

6. Staff report on LSC's FOIA function.

7. Staff report on program visits and oversight.

■ Presentation on 2009 OPP and OCE grantee oversight visits.

■ Report on select compliance issues.

■ Presentation on 2009 OIG visits to grantees.

8. Staff report on IPAs' competence to perform tasks assigned by Congress.

■ Jeffrey Schanz, Inspector General.

9. Other public comment.

10. Consider and act on other business.

11. Consider and act on adjournment of meeting.

Governance and Performance Review Committee

July 25, 2009

Agenda

1. Approval of agenda.

2. Approval of the minutes of the Committee's April 25, 2009 meeting.

3. Consider and act on procedures for conducting the performance review of the Inspector General.

4. Consider and act on protocol for compliance with Sunshine Act in deliberations and handling of information concerning performance review of senior officials.

■ Victor M. Fortuno, General Counsel.

■ Jeffrey Schanz, Inspector General.

5. Consider and act on notice of proposed rulemaking to amend 45 CFR part 1622, LSC's Sunshine regulation.

6. Staff report on update of list of Transition Materials and availability for examination on web.

7. Staff report on proposed format and agenda of orientation meetings for newly-appointed Board members.

8. Consider and act on procedure for oversight of LSC officers' compensation.

9. Other public comment.

10. Consider and act on other business.

11. Consider and act on adjournment of meeting.

Board of Directors

July 25, 2009

Agenda

1. Approval of agenda.

2. Approval of the minutes of the Board's Open Session meeting of April 25, 2009.

3. Approval of the minutes of the Board's Open Session Telephonic meeting of May 26, 2009.

4. Chairman's Report.

5. Members' Reports.

6. President's Report.

7. Inspector General's Report.

8. Consider and act on the report of the Provision for the Delivery of Legal Services Committee.

9. Consider and act on the report of the Finance Committee.

10. Consider and act on the report of the Operations & Regulations Committee.

11. Consider and act on the report of the Audit Committee.

12. Consider and act on the report of the Governance & Performance Review Committee.

13. Public comment.

14. Consider and act on whether to authorize an executive session of the Board to address items listed below under Closed Session.

Closed Session

15. Briefing by the Inspector General.

16. Consider and act on General Counsel's report on potential and pending litigation involving LSC.

24. Consider and act on other business.

25. Consider and act on motion to adjourn meeting.

Contact Person for Information: Katherine Ward, Executive Assistant to the Vice President & General Counsel, at (202) 295-1500.

Special Needs: Upon request, meeting notices will be made available in alternate formats to accommodate visual and hearing impairments. Individuals who have a disability and need an accommodation to attend the meeting may notify Katherine Ward, at (202) 295-1500.

Dated: July 14, 2009.
Victor M. Fortuno,
Vice President & General Counsel.

[FR Doc. E9-17265 Filed 7-16-09; 4:15 pm]

BILLING CODE 7050-01-P